DEPARTMENT OF ENERGY

Federal Energy Regulatory Commission

[Docket No. RP02-363-010]

North Baja Pipeline, LLC; Notice of Compliance Filing

February 26, 2004.

Take notice that on February 23, 2004, North Baja Pipeline, LLC (NBP) tendered for filing a compliance filing to demonstrate that the SoCal index, which is used to determine the collateral requirement for lent gas on NBP's system, is sufficiently reliable to meet the criteria of the FERC's Policy Statement on Natural Gas and Electric Price Indices, in compliance with the Commission's December 24, 2003, Order on Compliance Filing and Rehearing in Docket Nos. RP02-363-002, et al. NBP requests that the Commission approve NBP's use of the SoCal index for purposes of establishing a collateral requirement for shippers utilizing NBP's lending service.

NBP further states that a copy of this filing has been served on NBP's jurisdictional customers and interested State regulatory agencies.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-441 Filed 3-2-04; 8:45 am]

BILLING CODE 6717-01-P